DEPARTMENT OF ENERGY

Federal Energy Regulatory Commission

[Docket No. RM11-9-000]

Locational Exchanges of Wholesale Electric Power; Notice Terminating Proceeding

1. On February 17, 2011, the Commission issued a Notice of Inquiry (NOI) concerning the regulatory treatment of locational exchanges of wholesale electric power. The Commission sought guidance as to the circumstances under which locational exchanges of wholesale electric power should be permitted generically and circumstances under which the Commission should consider locational exchanges of wholesale electric power on a case-by-case basis. The Commission received 17 comments from interested parties addressing various issues presented in the NOI. The Commission has determined that there is no basis for continuing this proceeding through the initiation of a rulemaking process and, instead, addresses related issues in an order issued contemporaneously with this order.¹ Therefore, the Commission is terminating this proceeding.

¹ 138 FERC ¶ 61,121 (2012).

The Commission orders:

The Notice of Inquiry issued by the Commission in this proceeding is hereby terminated.

By direction of the Commission.
Issued: February 16, 2012.
Kimberly D. Bose,
Secretary.

[FR Doc. 2012-4071 Filed 2-21-12; 8:45 am]

BILLING CODE 6717-01-P